DEPARTMENT OF ENERGY

Federal Energy Regulatory Commission

Combined Notice of Filings #1

Take notice that the Commission received the following exempt wholesale generator filings:

Docket Numbers: EG21-157-000.

Applicants: Hanwha Q CELLS USA Corp.

Description: Notice of Self-Certification of Exempt Wholesale Generator Status of Hanwha Q Cells USA Corp.

Filed Date: 5/21/21.

Accession Number: 20210521-5266.

Comments Due: 5 p.m. ET 6/11/21.

Docket Numbers: EG21-158-000.

Applicants: Assembly Solar III, LLC.

Description: Notice of Self-Certification of Exempt Wholesale Generator Status of Assembly Solar III, LLC.

Filed Date: 5/14/21.

Accession Number: 20210514-5221.

Comments Due: 5 p.m. ET 6/4/21.

Docket Numbers: EG21-159-000.

Applicants: Point Beach Solar, LLC.

Description: Notice of Self-Certification of Exempt Wholesale Generator Status of Point Beach Solar, LLC.

Filed Date: 5/24/21.

Accession Number: 20210524-5080.

Comments Due: 5 p.m. ET 6/14/21.

Take notice that the Commission received the following electric rate filings:

Docket Numbers: ER10-2834-007; ER10-2821-007; ER12-1329-007; ER17-1438-002; ER17-2056-001; ER20-173-001.

Applicants: Munnsville Wind Farm, LLC, Radford's Run Wind Farm, LLC, RWE Renewables Energy Marketing, LLC, RWE Renewables O&M, LLC, Stony Creek Wind Farm, LLC, Wildcat Wind Farm I, LLC.

Description: Response to April 21, 2021 Deficiency Letter of Munnsville Wind Farm, LLC, et al.

Filed Date: 5/21/21.

Accession Number: 20210521-5267.

Comments Due: 5 p.m. ET 6/11/21.

Docket Numbers: ER15-697-003.

Applicants: Tonopah Solar Energy, LLC.

Description: Notice of Non-Material Change in Status of Tonopah Solar Energy, LLC.

Filed Date: 5/21/21.

Accession Number: 20210521-5269.

Comments Due: 5 p.m. ET 6/11/21.

Docket Numbers: ER21-90-002.

Applicants: Sun Streams 2, LLC.

Description: Notice of Non-Material Change in Status of Sun Streams 2, LLC.

Filed Date: 5/24/21.

Accession Number: 20210524-5082.

Comments Due: 5 p.m. ET 6/14/21.

Docket Numbers: ER21-471-002.

Applicants: Midcontinent Independent System Operator, Inc.

Description: Compliance filing: 2021-05-24_SA 3576 Compliance for MDU-Emmons Logan Wind FSA (J302 J503) to be effective 1/24/2021.

Filed Date: 5/24/21.

Accession Number: 20210524-5118.

Comments Due: 5 p.m. ET 6/14/21.

Docket Numbers: ER21-772-001.

Applicants: Resi Station, LLC.

Description: Tariff Amendment: Amendment to 1 to be effective 12/31/2020.

Filed Date: 5/24/21.

Accession Number: 20210524-5162.

Comments Due: 5 p.m. ET 6/14/21.

Docket Numbers: ER21-1978-000.

Applicants: Entergy Nuclear Indian Point 3, LLC.

Description: Tariff Cancellation: Entergy Nuclear Indian Point 3, LLC to be effective 5/22/2021.

Filed Date: 5/21/21.

Accession Number: 20210521-5225.

Comments Due: 5 p.m. ET 6/11/21.

Docket Numbers: ER21-1979-000.

Applicants: Southwest Power Pool, Inc.

Description: § 205(d) Rate Filing: 2825R9 KMEA and Evergy Kansas Central Meter Agent Agreement to be effective 6/1/2021.

Filed Date: 5/24/21.

Accession Number: 20210524-5037.

Comments Due: 5 p.m. ET 6/14/21.

Docket Numbers: ER21-1980-000.

Applicants: Mid-Atlantic Interstate Transmission, LLC, PJM Interconnection, L.L.C.

Description: § 205(d) Rate Filing: MAIT submits ECSA, SA No. 5950 to be effective 7/24/2021.

Filed Date: 5/24/21.

Accession Number: 20210524-5038.

Comments Due: 5 p.m. ET 6/14/21.

Docket Numbers: ER21-1981-000.

Applicants: Southwest Power Pool, Inc.

Description: § 205(d) Rate Filing: 2855R6 KMEA and Evergy Metro Meter Agent Agreement to be effective 6/1/2021.

Filed Date: 5/24/21.

Accession Number: 20210524-5039.

Comments Due: 5 p.m. ET 6/14/21.

Docket Numbers: ER21-1982-000.

Applicants: American Transmission Systems, Incorporated, PJM Interconnection, L.L.C.

Description: § 205(d) Rate Filing: ATSI submits ECSAs, SA Nos. 5941, 5942, and 5949 to be effective 7/24/2021.

Filed Date: 5/24/21.

Accession Number: 20210524-5042.

Comments Due: 5 p.m. ET 6/14/21.

Docket Numbers: ER21-1983-000.

Applicants: Midcontinent Independent System Operator, Inc.

Description: § 205(d) Rate Filing: 2021-05-21_SA 3387 ATXI-Prairie Wolf Solar 1st GIA (J949) to be effective 5/7/2021.

Filed Date: 5/24/21.

Accession Number: 20210524-5047.

Comments Due: 5 p.m. ET 6/14/21.

Docket Numbers: ER21-1984-000.

Applicants: Tampa Electric Company.

Description: § 205(d) Rate Filing: Emergency Interchange Service Schedule A&B-2021 to be effective 5/1/2021.

Filed Date: 5/24/21.

Accession Number: 20210524-5067.

Comments Due: 5 p.m. ET 6/14/21.

Docket Numbers: ER21-1985-000.

Applicants: Midcontinent Independent System Operator, Inc.

Description: § 205(d) Rate Filing: 2021-05-24_SA 3622 NIPSCO-ComEd Certificate of Concurrence to be effective 4/2/2021.

Filed Date: 5/24/21.

Accession Number: 20210524-5077.

Comments Due: 5 p.m. ET 6/14/21.

Docket Numbers: ER21-1986-000.

Applicants: PacifiCorp.

Description: Tariff Cancellation: Termination of BPA Metering Agreement—WEID to be effective 7/28/2021.

Filed Date: 5/24/21.

Accession Number: 20210524-5088.

Comments Due: 5 p.m. ET 6/14/21.

Docket Numbers: ER21-1987-000.

Applicants: PJM Interconnection, L.L.C.

Description: § 205(d) Rate Filing: Revisions to Sch. 12-Appx A: April 2021 RTEP, 30-day Comment Period Requested to be effective 8/22/2021.

Filed Date: 5/24/21.

Accession Number: 20210524-5091.

Comments Due: 5 p.m. ET 6/14/21.

Docket Numbers: ER21-1988-000.

Applicants: SP Garland Solar Storage, LLC.

Description: Baseline eTariff Filing: Application for MBR Authority and Initial Baseline Tariff Filing to be effective 5/31/2021.

Filed Date: 5/24/21.

Accession Number: 20210524-5098.

Comments Due: 5 p.m. ET 6/14/21.

Docket Numbers: ER21-1988-001.

Applicants: SP Garland Solar Storage, LLC.

Description: Tariff Amendment: Amendment to MBR Authority Application and Initial Baseline Tariff Filing to be effective 5/31/2021.

Filed Date: 5/24/21.

Accession Number: 20210524-5144.

Comments Due: 5 p.m. ET 6/14/21.

Docket Numbers: ER21-1989-000.

Applicants: SP Tranquillity Solar Storage, LLC.

Description: Baseline eTariff Filing: Application for MBR Authority and Initial Baseline Tariff Filing to be effective 5/31/2021.

Filed Date: 5/24/21.

Accession Number: 20210524-5100.

Comments Due: 5 p.m. ET 6/14/21.

Docket Numbers: ER21-1989-001.

Applicants: SP Tranquillity Solar Storage, LLC.

Description: Tariff Amendment: Amendment to MBR Authority Application and Initial Baseline Tariff Filing to be effective 5/31/2021.

Filed Date: 5/24/21.

Accession Number: 20210524-5147.

Comments Due: 5 p.m. ET 6/14/21.

Docket Numbers: ER21-1990-000.

Applicants: Blackwell Wind Energy, LLC.

Description: Baseline eTariff Filing: Blackwell Wind Energy, LLC Application for MBR Authorization to be effective 7/24/2021.

Filed Date: 5/24/21.

Accession Number: 20210524-5112.

Comments Due: 5 p.m. ET 6/14/21.

Docket Numbers: ER21-1991-000.

Applicants: Southwest Power Pool, Inc.

Description: § 205(d) Rate Filing: 2881R12 City of Chanute, KS NITSA NOA to be effective 1/1/2021.

Filed Date: 5/24/21.

Accession Number: 20210524-5126.

Comments Due: 5 p.m. ET 6/14/21.

Docket Numbers: ER21-1992-000.

Applicants: Midcontinent Independent System Operator, Inc., Michigan Electric Transmission Company, LLC, Wolverine Power Supply Cooperative, Inc., Consumers Energy Company, Michigan Public Power Agency.

Description: § 205(d) Rate Filing: 2021-05-24_MI JPZ RAA and Settlement Agreement Filing to be effective 6/1/2021.

Filed Date: 5/24/21.

Accession Number: 20210524-5156.

Comments Due: 5 p.m. ET 6/14/21.

Take notice that the Commission received the following qualifying facility filings:

Docket Numbers: QF97-48-006.

Applicants: Vicinity Energy Kansas City, Inc.

Description: Form 556 of Vicinity Energy Kansas City, Inc.

Filed Date: 5/24/21.

Accession Number: 20210524-5072.

Comments Due: 5 p.m. ET 6/14/21.

Take notice that the Commission received the following PURPA 210(m)(3) filings:

Docket Numbers: QM21-21-000.

Applicants: Big Rivers Electric Corporation.

Description: Application of Big Rivers Electric Corporation to Terminate Mandatory Purchase Obligation under the Public Utility Regulatory Policies Act of 1978.

Filed Date: 5/21/21.

Accession Number: 20210521-5273.

Comments Due: 5 p.m. ET 6/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2021.
Debbie-Anne A. Reese,
Deputy Secretary.

[FR Doc. 2021-11361 Filed 5-27-21; 8:45 am]

BILLING CODE 6717-01-P